DEPARTMENT OF LABOR

Employment and Training Administration

[TA-W-61,488]

Webb Furniture Plant #1, Galax, VA; Dismissal of Application for Reconsideration

Pursuant to 29 CFR 90.18(C) an application for administrative reconsideration was filed with the Director of the Division of Trade Adjustment Assistance for workers at Webb Furniture Plant #1, Galax, Virginia. The application did not contain new information supporting a conclusion that the determination was erroneous, and also did not provide a justification for reconsideration of the determination that was based on either mistaken facts or a misinterpretation of facts or of the law. Therefore, dismissal of the application was issued.

TA-W-61,488; Webb Furniture Plant #1, Galax, Virginia (July 13, 2007)

Signed at Washington, DC, this 18th day of July 2007.
Richard Church,
Certifying Officer Division of Trade Adjustment Assistance.

[FR Doc. E7-14231 Filed 7-23-07; 8:45 am]

BILLING CODE 4510-FN-P